COMMITTEE FOR THE IMPLEMENTATION OF TEXTILE AGREEMENTS

Amendment of Export Visa Requirements for Shipments of Textile and Clothing Integrated into GATT 1994 in the Second Stage from Oman

January 30, 2001.

AGENCY: Committee for the Implementation of Textile Agreements (CITA).

ACTION: Issuing a directive to the Commissioner of Customs amending export visa requirements.

EFFECTIVE DATE: February 5, 2001.

FOR FURTHER INFORMATION CONTACT: Roy Unger, International Trade Specialist, Office of Textiles and Apparel, U.S. Department of Commerce, (202) 482-4212.

SUPPLEMENTARY INFORMATION:

Authority: Section 204 of the Agricultural Act of 1956, as amended (7 U.S.C. 1854); Executive Order 11651 of March 3, 1972, as amended.

The Uruguay Round Agreement of Textiles and Clothing provides for the integration of textiles and clothing into GATT 1994. The second stage of the integration began on January 1, 1998 (see 60 FR 21075, published May 1, 1995). In a Federal Register notice published on October 7, 1998 (63 FR 53881), the Committee for the Implementation of Textile Agreements (CITA) amended the export visa requirements to no longer require a visa for products integrated during the second stage of integration for products from members of the World Trade Organization (WTO).

Oman joined the WTO on November 9, 2000. In the letter published below, the Chairman of CITA directs the Commissioner of Customs to no longer require a visa for products integrated into GATT 1994 in the second stage from Oman entered on and after February 5, 2001.

A description of the textile and apparel categories in terms of HTS numbers is available in the CORRELATION: Textile and Apparel Categories with the Harmonized Tariff Schedule of the United States (see Federal Register notice 65 FR 82328, published on December 28, 2000).

D. Michael Hutchinson,
Acting Chairman, Committee for the Implementation of Textile Agreements.

Committee for the Implementation of Textile Agreements

January 30, 2001.

Commissioner of Customs,

Department of the Treasury, Washington, DC 20229.

Dear Commissioner: Pursuant to Section 204 of the Agricultural Act of 1956, as amended (7 U.S.C. 1854); executive Order 11651 of March 3, 1972, as amended; and the World Trade Organization (WTO) Agreement on Textiles and Clothing, you are directed to amend the current visa requirements for textile and apparel products produced or manufactured in Oman that are entered into the United States on and after February 5, 2001, and that were integrated into GATT 1994 in the second stage of integration.

Effective on February 5, 2001, export visas no longer will be required for certain textile and apparel products from Oman.

Textile products subject to this directive are 229, 330, 349, 353, 354, 432, 439, 465, 630, 632, 653, 654, 665, 832, 839 and 899; and products in 239-babies garments, except diapers; 359, 459, 659 and 859-footwear; 369, 469 and 669-certain wadding and footwear; and 859-other silk blends and non-cotton vegetable fiber apparel. A complete list of products subject to this directive is attached to this letter.

Export visas will continue to be required for non-integrated products produced or manufactured in Oman.

The Committee for the Implementation of Textile Agreements has determined that these actions fall within the foreign affairs exception of the rulemaking provisions of 5 U.S.C. 553(a)(1).

Sincerely,

D. Michael Hutchinson,

Acting Chairman, Committee for the Implementation of Textile Agreements.

ATTACHMENT

I. Part or Partial Categories Integrated January 1, 1998

Babies Garments and Clothing Accessories, Except Diapers
Category | 1998 HTS
239 | 6111201000
239 | 6111202000
239 | 6111203000
239 | 6111204000
239 | 6111205000
239 | 6111206010
239 | 6111206020
239 | 6111206030
239 | 6111206040
239 | 6111301000
239 | 6111302000
239 | 6111303000
239 | 6111304000
239 | 6111305010
239 | 6111305015
239 | 6111305020
239 | 6111305030
239 | 6111305040
239 | 6111901000
239 | 6111902000
239 | 6111903000
239 | 6111904000
239 | 6111905010
239 | 6111905020
239 | 6111905030
239 | 6111905040
239 | 6209201000
239 | 6209202000
239 | 6209203000
239 | 6209205030
239 | 6209205035
239 | 6209205045
239 | 6209205050
239 | 6209301000
239 | 6209302000
239 | 6209303010
239 | 6209303020
239 | 6209303030
239 | 6209303040
239 | 6209901000
239 | 6209902000
239 | 6209903010
239 | 6209903015
239 | 6209903020
239 | 6209903030
239 | 6209903040
239 | 6505901515
239 | 6505902030
239 | 6505905030
239 | 6505906030
239 | 6505907030
239 | 6505908045

Footwear
Category | 1998 HTS
359 | 6406991550
459 | 6405206030
459 | 6405206060
459 | 6405206090
459 | 6406991505
459 | 6406991560
659 | 6406991510
659 | 6406991540
859 | 6406991570

Certain Wadding and Footwear
Category | 1998 HTS
369 | 5601101000
369 | 5601210090
369 | 5701901020
369 | 5701902020
369 | 5702109020
369 | 5702392010
369 | 5702491020
369 | 5702491080
369 | 5702591000
369 | 5702991010
369 | 5702991090
369 | 5705002020
369 | 6406107700
469 | 5601290020
469 | 5603941010
469 | 6406109020
669 | 5601102000
669 | 5601220090
669 | 5607493000
669 | 5607504000
669 | 6406109040

Other Silk Blend and Non-cotton Vegetable Fiber Apparel
Category | 1998 HTS
859 | 6103292082
859 | 6103498060
859 | 6104292087
859 | 6104292090
859 | 6104698020
859 | 6110909064
859 | 6110909066
859 | 6112202030
859 | 6112390090
859 | 6112490090
859 | 6114909020
859 | 6114909030
859 | 6114909040
859 | 6114909070
859 | 6117809570
859 | 6117909095
859 | 6203293080
859 | 6203498010
859 | 6204294090
859 | 6204294092
859 | 6204696070
859 | 6204699050
859 | 6211118040
859 | 6211128030
859 | 6211204860
859 | 6211207830
859 | 6211399010
859 | 6211399020
859 | 6211399060
859 | 6211399090
859 | 6211499010
859 | 6211499020
859 | 6211499060
859 | 6211499070
859 | 6211499090
859 | 6213102000
859 | 6213902000
859 | 6217109550
859 | 6217909095
859 | 6505901560
859 | 6505902590
859 | 6505909095
859 | 6505909085

II. Whole Categories Integrated January 1, 1998
Category | 1998 HTS
229 | Special Purpose Fabric
330 | Handkerchiefs
349 | Brassieres and Other Body Supporting Garments
353 | Men's and Boys' Down-filled Coats
354 | Women's and Girls' Down-filled Coats
432 | Hosiery
439 | Babies Garments and Clothing Accessories
465 | Floor Coverings
630 | Handkerchiefs
632 | Hosiery
653 | Men's and Boys' Down-filled Coats
654 | Women's and Girls' Down-filled Coats
665 | Floor Coverings
832 | Hosiery
839 | Babies Garments and Clothing Accessories
899 | Other Silk and Vegetable Blend Manufactures

[FR Doc. 01-2899 Filed 2-2-01; 8:45 am]

BILLING CODE 3510-DR-F